DEPARTMENT OF HEALTH AND HUMAN SERVICES

Health Resources and Services Administration

National Vaccine Injury Compensation Program: List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2019, through April 30, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: May 17, 2019.
George Sigounas,
Administrator.

List of Petitions Filed

1. Adria Pecora and Joseph Pecora, Jr. on behalf of Maryanne Pecora, Deceased, West Caldwell, New Jersey, Court of Federal Claims No: 19-0474V

2. Jeffrey Young and Tara Young on behalf of L. Y., Warren, Pennsylvania, Court of Federal Claims No: 19-0475V

3. Kathleen Corsillo, Columbia, Maryland, Court of Federal Claims No: 19-0476V

4. Timothy Riese, Sherman Oaks, California, Court of Federal Claims No: 19-0477V

5. Titus Henderson, Green Bay, Wisconsin, Court of Federal Claims No: 19-0479V

6. Michael B. Jordon, Hinesville, Georgia, Court of Federal Claims No: 19-0481V

7. Ashley McGlone, Manheim, Ohio, Court of Federal Claims No: 19-0483V

8. Keith Cousens, Glassboro, New Jersey, Court of Federal Claims No: 19-0485V

9. Jacquelyn Tracey, Lawrenceville, Georgia, Court of Federal Claims No: 19-0486V

10. Jeffrey Swab, Bel Air, Maryland, Court of Federal Claims No: 19-0488V

11. Kim Bordini Senn on behalf of O. S. S., Portland, Oregon, Court of Federal Claims No: 19-0489V

12. Larry Wienhoff, Hannibal, Missouri, Court of Federal Claims No: 19-0490V

13. Arthur Contreras, Burbank, California, Court of Federal Claims No: 19-0491V

14. Wendy Nelson on behalf of I. N., Morgantown, West Virginia, Court of Federal Claims No: 19-0494V

15. Charles Marion, Huntsville, Alabama, Court of Federal Claims No: 19-0495V

16. Ruth P. Grazier, Seattle, Washington, Court of Federal Claims No: 19-0497V

17. Marcella Harley, Fort Myers, Florida, Court of Federal Claims No: 19-0500V

18. Christopher Lane, Redding, California, Court of Federal Claims No: 19-0501V

19. Linda C. Duncan, Pine Bluff, Arkansas, Court of Federal Claims No: 19-0502V

20. Sheri McCluskey on behalf of T. D. G., Fort Worth, Texas, Court of Federal Claims No: 19-0503V

21. John Barrington, Everett, Washington, Court of Federal Claims No: 19-0504V

22. Julio Samble on behalf of J. J. S., El Paso, Texas, Court of Federal Claims No: 19-0507V

23. Patricia Cooper, Gainesville, Georgia, Court of Federal Claims No: 19-0509V

24. Katherine Sloan, Iowa City, Iowa, Court of Federal Claims No: 19-0511V

25. Teresa Cochran, Phoenix, Arizona, Court of Federal Claims No: 19-0513V

26. Valerie Sloan, Iowa City, Iowa, Court of Federal Claims No: 19-0514V

27. Audrey Sloan, Iowa City, Iowa, Court of Federal Claims No: 19-0515V

28. Melissa Sloan, Iowa City, Iowa, Court of Federal Claims No: 19-0516V

29. Leslie Davies, Poughkeepsie, New York, Court of Federal Claims No: 19-0519V

30. John Moriarty, East Brunswick, New Jersey, Court of Federal Claims No: 19-0523V

31. Dayna Clark, Hartford, Connecticut, Court of Federal Claims No: 19-0524V

32. Betty Darlene Craft, Alexandria, Louisiana, Court of Federal Claims No: 19-0525V

33. Michael E. Deutsch, Evanston, Illinois, Court of Federal Claims No: 19-0530V

34. Shelley Peterson, Murrieta, California, Court of Federal Claims No: 19-0532V

35. Jesse Lloyd, Waupun, Wisconsin, Court of Federal Claims No: 19-0534V

36. Ashley Borders and Matthew Byler on behalf of A. B., West Chester, Ohio, Court of Federal Claims No: 19-0535V

37. Charles Brandt, Selma, California, Court of Federal Claims No: 19-0536V

38. Marjorie Madan, Stamford, Connecticut, Court of Federal Claims No: 19-0537V

39. Steven M. Centers, Danville, Illinois, Court of Federal Claims No: 19-0539V

40. Maria Pagonis, Lake Bluff, Illinois, Court of Federal Claims No: 19-0540V

41. George Garrison, Springfield, Ohio, Court of Federal Claims No: 19-0541V

42. Mira Epshteyn, Staten Island, New York, Court of Federal Claims No: 19-0542V

43. Michael Short, Murfreesboro, Tennessee, Court of Federal Claims No: 19-0543V

44. Edlin M. Crawford, Fairfield, California, Court of Federal Claims No: 19-0544V

45. Gayane Diana Karapetian, Glendale, California, Court of Federal Claims No: 19-0546V

46. Sharon Alexander, Houma, Louisiana, Court of Court of Federal Claims No: 19-0547V

47. Deborah Coutu, Cumming, Georgia, Court of Court of Federal Claims No: 19-0548V

48. Samuel Kamau, Des Moines, Iowa, Court of Court of Federal Claims No: 19-0549V

49. Jasmine Vega, Brooklyn, New York, Court of Federal Claims No: 19-0550V

50. Angela Richardson on behalf of S. R., Sterling Heights, Michigan, Court of Federal Claims No: 19-0551V

51. Paul M. Doherty, Boston, Massachusetts, Court of Federal Claims No: 19-0552V

52. Klaudia Aubuchon, Pomona, California, Court of Federal Claims No: 19-0553V

53. Bradley Robert Wilson, Houston, Texas, Court of Federal Claims No: 19-0554V

54. Russell Pearce, Holmdel, New Jersey, Court of Federal Claims No: 19-0555V

55. Anne L. Steffens on behalf of Hannah L. Steffens, Chesterfield, Missouri, Court of Federal Claims No: 19-0556V

56. Vincent E. Pachasa and Christopher M. Pachasa on behalf of Kathleen E. Pachasa, Cleveland, Ohio, Court of Federal Claims No: 19-0557V

57. Mikayla Whitfield, Atlanta, Georgia, Court of Federal Claims No: 19-0559V

58. Julie Crofton, Granbury, Texas, Court of Federal Claims No: 19-0561V

59. Alma Howze, Canton, Michigan, Court of Federal Claims No: 19-0563V

60. Lisa Wooden-Moore, Katy, Texas, Court of Federal Claims No: 19-0564V

61. Ashish Dave, Pearland, Texas, Court of Federal Claims No: 19-0565V

62. Nigel Jackson, Springfield, Virginia, Court of Federal Claims No: 19-0566V

63. Joyce Robinson, Pittsburgh, Pennsylvania, Court of Federal Claims No: 19-0567V

64. Julie Lyons, Worthington, Ohio, Court of Federal Claims No: 19-0571V

65. Mary L. Holdren, Danville, Pennsylvania, Court of Federal Claims No: 19-0572V

66. Lesa N. Lyle on behalf of E. B. G., Birmingham, Alabama, Court of Federal Claims No: 19-0574V

67. John Rogers, Louisville, Kentucky, Court of Federal Claims No: 19-0576V

68. Genevieve Costabile, Johnston, Rhode Island, Court of Federal Claims No: 19-0578V

69. Ginger K. Williford, Dallas, Texas, Court of Federal Claims No: 19-0579V

70. Jessica Scheyder on behalf of J. H. S., Fredericksburg, Virginia, Court of Federal Claims No: 19-0580V

71. Ruth Thomas, Muncie, Indiana, Court of Federal Claims No: 19-0581V

72. Bienchis Y. Esteva-Feliz on behalf of The Estate of Apolinar Hasem Perdomo Feliz, Deceased, Raleigh, North Carolina, Court of Federal Claims No: 19-0582V

73. Christine Sartorelli, Concord, New Hampshire, Court of Federal Claims No: 19-0584V

74. Maria Silva, Wenatchee, Washington, Court of Federal Claims No: 19-0585V

75. Scott B. Hearth, M.D., Roseville, California, Court of Federal Claims No: 19-0589V

76. Katy Correa, Plainfield, Illinois, Court of Federal Claims No: 19-0592V

77. Aaron Weso, Keshena, Wisconsin, Court of Federal Claims No: 19-0596V

78. Nancy Andrews, Sarasota, Florida, Court of Federal Claims No: 19-0597V

79. Alicia Jackson, Oklahoma City, Oklahoma, Court of Federal Claims No: 19-0598V

80. Donna Chambers, Milton, Massachusetts, Court of Federal Claims No: 19-0599V

81. Sharon Fisher, Pleasantville, New Jersey, Court of Federal Claims No: 19-0600V

82. Gunvantbhai Bhakta, Whittier, California, Court of Federal Claims No: 19-0601V

83. Jacqueline Hernandez, Summerville, South Carolina, Court of Federal Claims No: 19-0603V

84. Michael Brent Klusman, Olathe, Kansas, Court of Federal Claims No: 19-0604V

85. Siddharth Mehta on behalf of Amrit Mehta, Deceased, Mount Kisco, New York, Court of Federal Claims No: 19-0606V

86. Kenneth Barber, Lake City, Florida, Court of Federal Claims No: 19-0607V

87. Sophia Simm-Bankston, Riverdale, Georgia, Court of Federal Claims No: 19-0608V

88. Carl Felts, Lancaster, Ohio, Court of Federal Claims No: 19-0609V

89. Carmen Teufel, Woodbridge, Virginia, Court of Federal Claims No: 19-0610V

90. Roberta Decker, Cockeysville, Maryland, Court of Federal Claims No: 19-0620V

91. Beverly Hicks, Great Falls, Montana, Court of Federal Claims No: 19-0621V

92. Robert Yuodelis, Bellevue, Washington, Court of Federal Claims No: 19-0622V

93. Lafonda Collier, High Point, North Carolina, Court of Federal Claims No: 19-0623V

94. Priscilla Johansen, Portland, Oregon, Court of Federal Claims No: 19-0626V

95. Tyler Anthony Thacker, Cincinnati, Ohio, Court of Federal Claims No: 19-0627V

96. Suzanne Allmart and Husayn Allmart on behalf of A. A., Evanston, Illinois, Court of Federal Claims No: 19-0628V

97. Nicole White, Apple Valley, Minnesota, Court of Federal Claims No: 19-0630V

98. Amy Thompson, Spotsylvania Courthouse, Virginia, Court of Federal Claims No: 19-0631V

99. Marissa Sheppard, Atlanta, Georgia, Court of Federal Claims No: 19-0632V

100. Tammy Ernst, Northfield, New Jersey, Court of Federal Claims No: 19-0633V

101. Heather Nelson, Rockport, Massachusetts, Court of Federal Claims No: 19-0634V

102. Patricia Slugo, Beaver, Pennsylvania, Court of Federal Claims No: 19-0635V

103. Peggy Stager, Aberdeen, South Dakota, Court of Federal Claims No: 19-0636V

104. Julie A. Fullerton, Missoula, Montana, Court of Federal Claims No: 19-0637V

105. Herman Haji, Rancho Cucamonga, California, Court of Federal Claims No: 19-0639V

106. Laura Mariani, Midland Park, New Jersey, Court of Federal Claims No: 19-0640V

107. Steinar Lee, Laguna Niguel, California, Court of Federal Claims No: 19-0641V

108. Erica Urech, Santa Barbara, California, Court of Federal Claims No: 19-0642V

[FR Doc. 2019-10828 Filed 5-23-19; 8:45 am]

BILLING CODE 4165-15-P